DEPARTMENT OF EDUCATION

Notice of Proposed Information Collection Requests; Institute of Education Sciences; 2012/14 Beginning Postsecondary Students Longitudinal Study: (BPS:12/14) Field Test

SUMMARY: The 2012/14 Beginning Postsecondary Students Longitudinal Study (BPS:12/14), conducted by the National Center for Education Statistics (NCES), is designed to follow a cohort of students who enroll in postsecondary education for the first time during the 2011-2012 academic year, irrespective of date of high school completion. The study collects data on student persistence in, and completion of, postsecondary education programs; their transition to employment; demographic characteristics; and changes over time in their goals, marital status, income, and debt, among other measures.

DATES: Interested persons are invited to submit comments on or before December 18, 2012.

ADDRESSES: Comments submitted in response to this notice should be submitted electronically through the Federal eRulemaking Portal at http://www.regulations.gov by selecting Docket ID number ED-2012-IES-0038 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E117, Washington, DC 20202-4537.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Acting Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: 2012/14 Beginning Postsecondary Students Longitudinal Study: (BPS:12/14) Field Test.

OMB Control Number: 1850-0631.

Type of Review: Revision.

Total Estimated Number of Annual Responses: 13,975.

Total Estimated Number of Annual Burden Hours: 2,294.

Abstract: Data from BPS are used to help researchers and policymakers better understand how financial aid influences persistence and completion, what percentages of students complete various degree programs, what early employment and wage outcomes are for certificate and degree attainers, and why students leave school. This request is to conduct the BPS:12/14 first follow-up field test, including panel maintenance, student interviews and reinterviews, and administrative record matching. Following the field test study in 2013, NCES will submit a request for clearance of the BPS:12/14 full scale data collection to be conducted in spring 2014. Because only minimal changes are expected after the field test, NCES is requesting a waiver of the 60-day Federal Register Notice for the full-scale collection clearance submission.

Dated: October 16, 2012.
Stephanie Valentine,
Acting Director, Information Collection Clearance Division, Privacy, Information and Records Management Services, Office of Management.

[FR Doc. 2012-25850 Filed 10-18-12; 8:45 am]

BILLING CODE 4000-01-P